DEPARTMENT OF COMMERCE

International Trade Administration

(A-405-803)

Purified Carboxymethylcellulose From Finland; Final Results of Antidumping Duty Administrative Review

AGENCY: Import Administration, International Trade Administration, Department of Commerce.

SUMMARY: On August 7, 2008, the Department of Commerce (the Department) published the preliminary results of administrative review of the antidumping duty order covering purified carboxymethylcellulose (CMC) from Finland. See Purified Carboxymethylcellulose from Finland; Notice of Preliminary Results of Antidumping Duty Administrative Review, 73 FR 45948 (August 7, 2008) (Preliminary Results). The merchandise covered by the order is purified CMC as described in the “Scope of the Order” section of this notice. The period of review (POR) is July 1, 2006, through June 30, 2007. In the Preliminary Results, we invited parties to provide comments. We have not made any changes to our calculation based on our analysis of the comments received. Therefore, the final results do not differ from the Preliminary Results. The final weighted-average dumping margin for the reviewed firm is listed below in the section titled “Final Results of the Review.”

DATES: December 11, 2008.

FOR FURTHER INFORMATION CONTACT: Tyler Weinhold, or Robert James, AD/CVD Operations, Office 7, Import Administration, International Trade Administration, U.S. Department of Commerce, 14th Street and Constitution Avenue, NW, Washington, DC 20230; telephone: (202) 482-1121, and (202) 482-0649, respectively.

SUPPLEMENTARY INFORMATION:

Background

On August 7, 2008, the Department published the preliminary results of administrative review of the antidumping duty order covering purified CMC from Finland. See Preliminary Results. The parties subject to this review are CP Kelco Oy and CP Kelco U.S., Inc. (collectively, CP Kelco). The petitioner in this proceeding is the Aqualon Company, a division of Hercules Incorporated (Petitioner).

In the Preliminary Results we invited parties to provide comments. In response, the Department received comments from Petitioner on September 5, 2008. See Letter from Haynes Boone Regarding Purified Carboxymethylcellulose from Finland; Request for a Public Hearing and Comment by Petitioner Aqualon Company in Lieu of Formal Case Brief, dated September 5, 2008 (Petitioner's Comments). On September 15, 2008, CP Kelco submitted its rebuttal to Petitioner's September 5, 2008 submission (CP Kelco's Rebuttal). Petitioner contacted officials at the Department and withdrew its request for a public hearing. See Memorandum to the File from Robert James, Program Manager, titled, “Withdrawl of Petitioner's Request for a Hearing,” dated September 11, 2008.

Scope of the Order

The merchandise covered by the order is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to the order is classified in the Harmonized Tariff Schedule of the United States at subheading 3912.31.00. This tariff classification is provided for convenience and customs purposes; however, the written description of the scope of the order is dispositive.

Analysis of Comments Received

All issues raised in Petitioner's Comments and in CP Kelco's Rebuttal are addressed in the Memorandum to David M. Spooner, Assistant Secretary for Import Administration: “Issues and Decision Memorandum for the Final Results of the 2006-2007 Administrative Review of Purified Carboxymethylcellulose from Finland,” dated December 4, 2008 (Issues and Decision Memorandum), which is hereby adopted by this notice. A list of the issues which parties have raised and to which we have responded, all of which are in the Issues and Decision Memorandum, is attached to this notice as an appendix. The Issues and Decision Memorandum is on file in the Central Records Unit in room 1117 of the main Department's building. In addition, a complete version of the Issues and Decision Memorandum can be accessed directly on the Internet at http://www.trade.gov/ia. The paper copy and electronic version of the Issues and Decision Memorandum are identical in content.

Based on our analysis of the comments received from interested parties, we have made no changes to the margin calculations for CP Kelco from the Preliminary Results.

Final Results of the Review

We determine the following percentage weighted-average margin exists for the period July 1, 2006, through June 30, 2007:

Manufacturer/Exporter | Weighted Average Margin (Percentage)
CP Kelco Oy | 13.89%%

Assessment

The Department shall determine, and U.S. Customs and Border Protection (CBP) shall assess, antidumping duties on all appropriate entries. In accordance with 19 CFR 351.212(b)(1), the Department calculates an assessment rate for each importer of the subject merchandise covered by the review. CP Kelco has reported entered values for all of its sales of subject merchandise to the United States during the POR. Therefore, in accordance with 19 CFR 351.212(b)(1), we have calculated importer-specific duty assessment rates on the basis of the ratio of the total amount of antidumping duties calculated for the examined sales to the total entered value of the examined sales of that importer. These rates will be assessed uniformly on all entries the respective importers made during the POR. Where the assessment rate is above de minimis, we will instruct CBP to assess duties on all entries of subject merchandise by that importer. The Department intends to issue assessment instructions directly to CBP fifteen days after publication of these final results of review.

The Department clarified its “automatic assessment” regulation on May 6, 2003. This clarification applies to entries of subject merchandise during the POR produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of this notice of final results of administrative review for all shipments of purified CMC from Finland entered, or withdrawn from warehouse, for consumption on or after the date of publication, as provided by section 751(a)(1) of the Tariff Act of 1930, as amended (the Act): 1) The cash deposit rate for CP Kelco will be the rate established in the final results of this review; 2) for previously investigated companies not listed above, the cash deposit rate will continue to be the company-specific rate published for the most recent period; 3) if the exporter is not a firm covered in this review or the less-than-fair-value (LTFV) investigation, but the manufacturer is, the cash deposit rate will be the rate established for the most recent period for the manufacturer of the merchandise; and 4) if neither the exporter nor the manufacturer is a firm covered in this or any previous review conducted by the Department, the cash deposit rate will be the all-others rate of 6.65 percent from the LTFV investigation. See Notice of Antidumping Duty Orders: Purified Carboxymethylcellulose from Finland, Mexico, the Netherlands and Sweden, 70 FR 39734 (July 11, 2005). These cash deposit requirements shall remain in effect until further notice.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping or countervailing duties occurred and the subsequent assessment of doubled antidumping duties.

Notification Regarding Administrative Protective Orders

This notice also serves as a reminder to parties subject to administrative protective orders (APO) of their responsibility concerning the return or destruction of proprietary information disclosed under APO in accordance with 19 CFR 351.305(a)(3). Timely written notification of the return or destruction of APO materials or conversion to judicial protective order is hereby requested. Failure to comply with the regulations and terms of an APO is a violation that is subject to sanction.

We are issuing and publishing this notice in accordance with sections 751(a)(1) and 777(i) of the Act.

Dated: December 4, 2008.
David M. Spooner,
Assistant Secretary for Import Administration.

Appendix

Comments:

Comment 1: Whether to Increase CP Kelco Oy's Cost of Production for Shut-down Costs Incurred by its Swedish Affiliate

[FR Doc. E8-29388 Filed 12-10-08; 8:45 am]

BILLING CODE 3510-DS-S